DEPARTMENT OF COMMERCE

Census Bureau

Annual Trade Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 25, 2005.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to John Trimble, Bureau of the Census, Room 2682-FOB 3, Washington, DC 20233-6500, (301) 763-2703.

SUPPLEMENTARY INFORMATION:

I. Abstract

The Census Bureau plans to expand the currently approved Annual Trade Survey (ATS) to include agents, brokers and electronic markets (AGBR). The expanded survey will include a selected sample of firms operating offices facilitating sales between businesses in the United States. Data will be collected annually on sales, commissions, value of sales arranged for others, e-commerce sales, and operating expenses. Initially, we will request two years of data for the AGBR. Afterwards, we will request one year of data. The expanded survey will be mailed to a sample of firms on a company basis to reduce respondent burden. In order to set up reporting arrangements for companies we will contact them by phone and by mail. We will request data for calendar year. Two report forms will be developed to collect AGBR data. Two forms are needed to accommodate both large and small firms. The mailings will be conducted in January following the survey year requested. Respondents will have thirty days to complete the report form before a follow-up form is sent. Later, as needed, an additional follow-up form will be sent, and a telephone follow-up will be conducted.

This expansion of the ATS survey is being conducted to obtain a missing component of wholesale data. The current ATS collects data for merchant wholesalers, and MSBO, but does not obtain data for AGBRs. The Bureau of Economic Analysis (BEA) has made repeated requests for these data that they consider vital to accurately measuring sales for wholesale trade, and important inputs to BEA's preparation of National Income and Product accounts and their annual input-output tables. This expansion to ATS will provide annual data for the entire wholesale sector. Data will be published at the United States summary level for selected wholesale industries.

II. Method of Collection

We will collect this information by mail, Fax, and telephone follow-up.

III. Data

OMB Number: 0607-0195.

Additional Form Numbers: SA-42(AGBR) and SA-42A(AGBR).

Type of Review: Regular submission.

Affected Public: Business or other for-profit.

Estimated Number of Additional Respondents: 659.

Estimated Time for Additional Response: 23 minutes (avg.).

Estimated Additional Annual Burden Hours: 253.

Estimated Additional Annual Cost: The cost to the respondent is estimated to be $5,968 based on an annual response burden of 253 hours and a rate of $23.59 per hour to complete the form.

Respondent's Obligation: Mandatory.

Legal Authority: Title 13, United States Code, Sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 16, 2005.
Madeleine Clayton,
Management Analyst, Office of the Chief Information Officer.

[FR Doc. 05-3391 Filed 2-22-05; 8:45 am]

BILLING CODE 3510-07-P